DEPARTMENT OF THE INTERIOR

Fish and Wildlife Service

[FWS-R1-ES-2008-N0222; 81440-1112-0000 ABC Code F2]

Endangered and Threatened Wildlife and Plants; Incidental Take Permits in Santa Cruz County, CA

AGENCY: Fish and Wildlife Service, Interior.

ACTION: Notice of receipt of applications for permit.

SUMMARY: We, the Fish and Wildlife Service (Service), announce the availability of five Incidental Take Permit applications and Habitat Conservation Plans (HCPs) under section 10(a)(1)(B) of the Endangered Species Act of 1973, as amended (Act). The applicants collectively anticipate removing a total of approximately 2.04 acres of Mount Hermon June beetle (Polyphylla barbata) occupied habitat, and one HCP also includes the federally endangered Ben Lomond spineflower (Chorizanthe pungens var. hartwegiana) as a covered species. We are requesting comments on the permit applications and on our preliminary determination that the proposed HCPs qualify as “low effect” HCPs, eligible for a categorical exclusion under the National Environmental Policy Act of 1969, as amended.

DATES: Written comments should be received on or before November 3, 2008.

ADDRESSES: Please address written comments to Diane Noda, Field Supervisor, Ventura Fish and Wildlife Office, U.S. Fish and Wildlife Service, 2493 Portola Road, Suite B, Ventura, California 93003. You may also send comments by facsimile to (805) 644-3958. To obtain copies of draft documents, see “Availability of Documents” under SUPPLEMENTARY INFORMATION.

FOR FURTHER INFORMATION CONTACT: Jen Lechuga, HCP Coordinator (see ADDRESSES), telephone: (805) 644-1766 extension 224.

SUPPLEMENTARY INFORMATION:

Availability of Documents

You may obtain copies of the applications and HCPs by contacting the HCP Coordinator (see FOR FURTHER INFORMATION CONTACT). Documents will also be available for review by appointment, during normal business hours, at the Ventura Fish and Wildlife Office (see ADDRESSES), or via the Internet at: http://www.fws.gov/ventura.

Background

Section 9 of the Act (16 U.S.C. 1531 et seq.) and Federal regulations prohibit the “take” of fish or wildlife species listed as endangered or threatened, respectively. Take of listed fish or wildlife is defined under the Act to mean to harass, harm, pursue, hunt, shoot, wound, kill, trap, capture, or collect, or to attempt to engage in any such conduct. However, the Service, under limited circumstances, may issue permits to cover incidental take, i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

We announce the availability of five Incidental Take Permit (ITP) applications and Habitat Conservation Plans (HCPs) from the following five applicants: Blake Lane LLP, Larry Busch, Jim Sisk, Richard and Carolyn Tinkess, and Ed and Lita West. Blake Lane LLP, Larry Busch, and Jim Sisk each request an ITP for a duration of 5 years; Richard and Carolyn Tinkess and Ed and Lita West each request an ITP for a duration of 3 years, under section 10(a)(1)(B) of the Act. The applicants collectively anticipate removing a total of approximately 2.04 acres of Mount Hermon June beetle (Polyphylla barbata) occupied habitat incidental to constructing six condominiums, nine single-family homes, one single-family home relocation, and an addition to an existing single-family home in Santa Cruz County, California (Projects).

The applicants' HCPs describe the mitigation and minimization measures the applicants propose to address the effects of the Projects on the Mount Hermon June beetle. In addition, the Richard and Carolyn Tinkess HCP includes the federally endangered Ben Lomond spineflower (Chorizanthe pungens var. hartwegiana) as a covered species, and their HCP describes mitigation and minimization measures for this species as well.

The Projects are located on soils known as “Zayante sands.” These soils support the Zayante sandhills ecosystem that occurs exclusively in the Santa Cruz Mountains near the city of Scotts Valley and the communities of Ben Lomond, Mount Hermon, Felton, Olympia, Corralitos, and Bonny Doon. The Mount Hermon June beetle is restricted to Zayante sands soils in the Scotts Valley-Mount Hermon-Felton-Ben Lomond area and is found in association with vegetation of the Zayante sandhills, which is characterized by a mosaic of ponderosa pines (Pinus ponderosa), silverleaf manzanita (Arctostaphylos silvicola), and areas that are sparsely vegetated with grasses and herbs.

The five applicants are requesting to remove approximately 2.04 acres of combined Mount Hermon June beetle habitat incidental to construction of the Projects. Residential construction of the six condominiums for Blake Lane LLP would occur within parcel 022-172-47 in Scotts Valley, Santa Cruz County, California. Residential construction of two single-family homes and a single-family home relocation for Mr. and Mrs. Larry Busch would occur within parcel 067-041-24 near the city of Scotts Valley, Santa Cruz County, California. Residential construction of six single-family homes for Jim Sisk would occur within parcels 021-231-09 and 021-071-02 near the city of Scotts Valley in Santa Cruz County, California. Residential construction of one single-family home for Richard and Carolyn Tinkess would occur within parcel 067-411-39 near the city of Scotts Valley in Santa Cruz County, California. Residential construction of a room addition to a single-family home for Ed and Lita West would occur within parcel 072-273-34 in Ben Lomond, Santa Cruz County, California.

The parcels combined encompass about 3.54 acres, and the footprints of the homes, infrastructure, and landscaping would eliminate 2.04 acres of Mount Hermon June beetle habitat. To mitigate for incidental take on the project sites, the applicants propose to purchase a total of 2.33 acres of conservation credits for the Mount Hermon June beetle at the recently approved Ben Lomond Sandhills Preserve of the Zayante Sandhills Conservation Bank operated by PCO, LLC. In addition, the applicants will implement a number of minimization and mitigation measures intended to reduce impacts from the proposed Projects on the Mount Hermon June beetle.

National Environmental Policy Act

We are requesting comments on the permit applications and on our preliminary determination that the proposed Habitat Conservation Plans (HCP) qualify as “low effect” HCPs, eligible for a categorical exclusion under the National Environmental Policy Act (NEPA) of 1969, as amended (42 U.S.C. 4321 et seq.). We explain the basis for this possible determination in draft Environmental Action Statements (EAS) and associated Low Effect Screening Forms. The Applicants' Low Effect HCPs describe the mitigation and minimization measures they would implement, as required in section 10(a)(2)(B) of the Act, to address the effects of the Projects on the Mount Hermon June beetle. The draft HCPs and EASs are available for public review.

We have made a preliminary determination that the HCPs qualify as “low-effect” plans as defined by our Habitat Conservation Planning Handbook (November 1996). Our determination that an HCP qualifies as a low-effect plan is based on the following criteria: (1) Implementation of the plan would result in minor or negligible effects on federally listed, proposed, and candidate species and their habitats; (2) implementation of the plan would result in minor or negligible effects on other environmental values or resources; and (3) impacts of the plan, considered together with the impacts of other past, present, and reasonably foreseeable similarly situated projects would not result, over time, in cumulative effects to the environmental values or resources that would be considered significant. As more fully explained in our EASs and associated Low Effect Screening Forms, the Applicants' proposals for residential construction qualify as “low effect” plans for the following reasons:

(1) Approval of the HCPs would result in minor or negligible effects on the Mount Hermon June beetle and Ben Lomond spineflower and their habitat. The Service does not anticipate significant direct or cumulative effects to the Mount Hermon June beetle or Ben Lomond spineflower resulting from the proposed Projects.

(2) Approval of the HCPs would not have adverse effects on unique geographic, historic, or cultural sites, or involve unique or unknown environmental risks.

(3) Approval of the HCPs would not result in any cumulative or growth-inducing impacts and would not result in significant adverse effects on public health or safety.

(4) The Projects do not require compliance with Executive Order 11988 (Floodplain Management), Executive Order 11990 (Protection of Wetlands), or the Fish and Wildlife Coordination Act, nor do they threaten to violate a Federal, State, local, or tribal law or requirement imposed for the protection of the environment.

(5) Approval of the HCPs would not establish a precedent for future actions or represent a decision in principle about future actions with potentially significant environmental effects.

The Service, therefore, has made a preliminary determination that approvals of the HCPs qualify as categorical exclusions under NEPA, as provided by the Department of the Interior Manual (516 DM 2, Appendix 1 and 516 DM 6, Appendix 1). Based upon this preliminary determination, we do not intend to prepare further NEPA documentation. The Service will consider public comments in making its final determination on whether to prepare such additional documentation.

Public Review and Comment

We will evaluate the permit applications, HCPs, and comments submitted thereon to determine whether the applications meet the requirements of section 10(a) of the Act. If we determine that the applications meet those requirements, we will issue the ITPs for incidental take of the Mount Hermon June beetle. We will also evaluate whether issuance of the section 10(a)(1)(B) ITPs complies with section 7 of the Act by conducting an intra-Service section 7 consultation. We will use the results of this consultation, in combination with the above findings, in the final analysis to determine whether or not to issue the ITPs.

If you wish to comment on the permit applications, draft Environmental Action Statements or the proposed HCPs, you may submit your comments to the address listed in the ADDRESSES section of this document. Our practice is to make comments, including names, home addresses, etc., of respondents available for public review. Individual respondents may request that we withhold their names and/or home addresses, etc., but if you wish us to consider withholding this information you must state this prominently at the beginning of your comments. In addition, you must provide a rationale demonstrating and documenting that disclosure would constitute a clearly unwarranted invasion of privacy. In the absence of exceptional, documented circumstances, this information will be released. All submissions from organizations or businesses, and from individuals identifying themselves as representatives or officials of organizations or businesses, are available for public inspection in their entirety.

The Service provides this notice pursuant to section 10(c) of the Act and pursuant to implementing regulations for NEPA (40 CFR 1506.6).

Dated: September 29, 2008.
Diane K. Noda,
Field Supervisor, Ventura Fish and Wildlife Office, Ventura, California.

[FR Doc. E8-23403 Filed 10-2-08; 8:45 am]

BILLING CODE 4310-55-P